DEPARTMENT OF TRANSPORTATION

Federal Railroad Administration

Notice of the Extension of the Comment Period for the Draft Environmental Impact Report/Environmental Impact Statement for the California High-Speed Rail Project Merced to Fresno Section

AGENCY: Federal Railroad Administration (FRA), United States Department of Transportation (DOT).

ACTION: Notice.

SUMMARY: FRA is issuing this notice to advise the public that the comment period for the Draft Environmental Impact Report (EIR)/Environmental Impact Statement (EIS) that has been prepared for the California High-Speed Train (HST) Project Merced to Fresno Section (Project) has been extended and shall now end on October 13, 2011. This decision was made by the Authority and FRA in response to requests for extension of the comment period. FRA is the lead federal agency and the California High-Speed Rail Authority (Authority) is the lead state agency for the environmental review process.

The Authority proposes to construct and operate a reliable high-speed electric-powered passenger train system along an approximately 65-mile corridor, from Merced, CA, to Fresno, CA that links those cities by delivering predictable and consistent travel times. The Project includes high-speed track alignments, stations in downtown Merced and Fresno. A heavy maintenance facility for assembly, testing, and commissioning of trains, train inspection and service, and train overhaul may be constructed in the Merced to Fresno Section.

The Draft EIR/EIS presents the Project's purpose and need, identifies all reasonable alternatives including track alignments, stations, and heavy maintenance facilities as well as the no action alternative, describes the affected environment, analyzes the potential environmental impacts of all the reasonable alternatives and the no action alternative, and identifies appropriate mitigation measures to minimize the potential environmental impacts.

DATES: Written comments on the Draft EIR/EIS for the Project should be provided to the Authority on or before October 13, 2011. Public hearings are scheduled on September 14, 2011, September 15, 2011, and September 20, 2011 in Merced, CA, Madera, CA, and Fresno, CA respectively at the times and dates listed in the Addresses Section below.

ADDRESSES: Written comments on the Draft EIR/EIS should be sent to the California High-Speed Rail Authority, Merced to Fresno EIR/EIS Comment, 770 L Street, Suite 800, Sacramento, CA 95814, through the Authority's Web site at http://www.cahighspeedrail.ca.gov, or via e-mail with the subject line “Draft EIR/EIS” to merced_fresno@hsr.ca.gov. Comments may also be provided orally or in writing at the public hearings scheduled at the following locations:

• Merced, CA, Wednesday, September 14, 2011, 3 to 8 p.m., Merced Community Senior Center, 755 West 15th Street, Merced, CA 95340;

• Madera, CA, Thursday, September 15, 2011, 3 to 8 p.m., Madera City Council Chambers, 205 W. 4th Street, Madera, CA 93637; and

• Fresno, CA, Tuesday, September 20, 2011, 3 to 8 p.m., Fresno Convention Center, 848 M Street, Fresno, CA.

FOR FURTHER INFORMATION CONTACT: Mr. David Valenstein, Chief, Environment and Systems Planning Division, Office of Railroad Policy and Development, Federal Railroad Administration, U.S. Department of Transportation, 1200 New Jersey Avenue, SE., MS-20, Washington, DC 20590 (telephone: 202-493-6368), or Mr. Dan Leavitt, Deputy Director for Environmental Review and Planning, California High-Speed Rail Authority, 770 L Street, Ste. 800, Sacramento, CA 95814 (telephone: 916-324-1541).

SUPPLEMENTARY INFORMATION: Once completed, the California HST system will provide intercity, high-speed passenger rail service on more than 800 miles of tracks throughout California, connecting the major population centers of Sacramento, the San Francisco Bay Area, the Central Valley, Los Angeles, the Inland Empire, Orange County, and San Diego. It will use state-of-the-art, electrically powered, high-speed, steel-wheel-on-steel-rail technology, including contemporary safety, signaling, and automated train-control systems, with trains capable of operating up to 220 miles per hour (mph) over a fully grade-separated, dedicated double track alignment.

The FRA and Authority certified a Statewide Program EIR/EIS (Tier 1) for the California HST system in November 2005 as the first phase of a tiered environmental review process for the California HST system. In 2008, the FRA and Authority certified another program EIR/EIS for the Bay Area to Central Valley portion of the HST system. The Merced to Fresno Section Draft EIR/EIS (Tier 2) analyzes the environmental impacts and benefits of implementing the high-speed train in the more geographically limited area between Merced and Fresno, and is based on more detailed project planning and engineering. This Draft EIR/EIS analysis builds on the earlier decisions and program EIR/EISs, and provides more site-specific and detailed analysis.

The Authority plans to complete the California HST System in two phases. Phase 1 will connect San Francisco to Los Angeles/Anaheim via the Pacheco Pass and the Central Valley with a mandated express travel time of 2 hours and 40 minutes or less. Phase 2 will connect the Central Valley to the state's capital, Sacramento, and will extend the system from Los Angeles to San Diego. This Project is for one section in Phase 1 and is receiving funding from FRA for design and environmental review as well as for construction of an initial Section in the Central Valley.

The American Recovery and Reinvestment Act of 2009 (Recovery Act), enacted February 17, 2009, contained $8 billion to fund high-speed and intercity passenger rail (HSIPR) projects. In response to the Recovery Act funding, FRA developed and began implementation of the HSIPR Program to fund projects to improve existing intercity passenger rail service and to develop new high speed intercity passenger rail corridors. FRA's HSIPR Program also received an additional $2.1 billion from the Transportation, Housing, and Urban Development and Related Agencies Appropriations Act of 2010. The California High-Speed Rail Authority applied for and was selected to receive over $3.5 billion in HSIPR funds from FRA to complete preliminary engineering and NEPA reviews, and associated documentation for seven sections comprising the Phase 1 California HST System and to construct an initial Central Valley Section from Madera County to Bakersfield (Kern County), California. Completion of the environmental review process marked by issuance of a Record of Decision (ROD) by FRA is a prerequisite for any construction related federal funding or approvals from FRA.

The approximately 65-mile-long Merced to Fresno Section is an essential part of the statewide HST System. The Merced to Fresno Section is the location of the connection between the Bay Area and Sacramento branches of the HST System; it will provide Merced and Fresno access to a new transportation mode and will contribute to increased mobility throughout California. This Section will connect the central San Joaquin Valley region to the remainder of the HST System via Merced County, Madera County, and the northern part of the city of Fresno.

This Draft EIR/EIS has been prepared by the FRA and the Authority consistent with the provisions of Section 102(2)(c) of the National Environmental Policy Act (NEPA) of 1969 (42 U.S.C. 4321 et seq.), the Counsel of Environmental Quality (CEQ) regulations implementing NEPA (40 CFR parts 1500 et seq.), FRA's Procedures for Considering Environmental Impacts (64 FR 28545 (May 26, 1999)), and in conformity with the California Environmental Quality Act (CEQA) (California Public Resources Code Section 21000 et seq.), and the CEQA Guidelines (California Code of Regulations, Title 14, Section 15000 et seq.).

The Draft EIR/EIS is available online at FRA's Web site: http://www.fra.dot.gov and the Authority's Web site: http://www.cahighspeedrail.ca.gov. The Draft EIR/EIS is also available for viewing at the following locations near the planned rail system:

• Fresno County Public Library, Central Branch, 2420 Mariposa Street, Fresno, CA 93721;

• Madera County Library, 121 North G Street, Madera, CA 93637;

• Chowchilla Branch Library (Madera County Library), 300 Kings Avenue, Chowchilla, CA 93610;

• Merced Community Senior Center, 755 West 15th Street, Merced, CA 95340;

• Merced County Library, 2100 O Street, Merced, CA 95340;

• Galilee Missionary Baptist Church, 22941 Fairmead Boulevard, Chowchilla, CA 93610;

• Le Grand Branch Library, 12949 Le Grand Road, Le Grand, CA 95333;

• Lao Family Community, 855 W. 15th Street, Merced, CA 95333;

• Madera Ranchos Branch Library, 37167 Avenue 12, Suite 4C, Madera, CA 95636;

• Merced County Los Banos Branch Library, 1312 South Seventh Street, Los Banos, CA 93635; and

• Atwater Branch Library, 1600 Third Street, Atwater, CA 95301.

Issued in Washington, DC, on August 31, 2011.
Paul Nissenbaum,
Director, Office of Passenger and Freight Programs.

[FR Doc. 2011-23013 Filed 9-7-11; 8:45 am]

BILLING CODE 4910-06-P